DEPARTMENT OF TRANSPORTATION

Federal Aviation Administration

14 CFR Part 39

[Docket No. FAA-2007-27011; Directorate Identifier 2006-NM-175-AD]

RIN 2120-AA64

Airworthiness Directives; Airbus Model A318, A319, A320, and A321 Airplanes

AGENCY: Federal Aviation Administration (FAA), Department of Transportation (DOT).

ACTION: Notice of proposed rulemaking (NPRM).

SUMMARY: The FAA proposes to supersede an existing airworthiness directive (AD) that applies to all Airbus Model A318, A319, A320, and A321 airplanes. The existing AD currently requires inspecting to determine the part number and serial number of the fuel tank boost pumps and, for airplanes with affected pumps, revising the airplane flight manual (AFM) and the FAA-approved maintenance program. The existing AD also provides for optional terminating action for compliance with the revisions to the AFM and the maintenance program. This proposed AD would require modifying or replacing the fuel tank boost pumps, which would allow removal of the limitations from the AFM and the maintenance program. This proposed AD results from a report that a fuel tank boost pump failed in service, due to a detached screw of the boost pump housing that created a short circuit between the stator and rotor of the boost pump motor and tripped a circuit breaker. We are proposing this AD to prevent electrical arcing in the fuel tank boost pump motor, which, in the presence of a combustible air-fuel mixture in the pump, could result in an explosion and loss of the airplane.

DATES: We must receive comments on this proposed AD by February 26, 2007.

ADDRESSES: Use one of the following addresses to submit comments on this proposed AD.

• DOT Docket web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Dulin, Aerospace Engineer, International Branch, ANM-116, Transport Airplane Directorate, FAA, 1601 Lind Avenue, SW., Renton, Washington 98055-4056; telephone (425) 227-2141; fax (425) 227-1149.

SUPPLEMENTARY INFORMATION:

Comments Invited

We invite you to submit any relevant written data, views, or arguments regarding this proposed AD. Send your comments to an address listed in the ADDRESSES section. Include the docket number “Docket No. FAA-2007-27011; Directorate Identifier 2006-NM-175-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On June 7, 2006, we issued AD 2006-12-02, amendment 39-14626 (71 FR 34814, June 16, 2006), for all Airbus Model A318, A319, A320, and A321 airplanes. That AD requires inspecting to determine the part number and serial number of the fuel tank boost pumps and, for airplanes with affected pumps, revising the airplane flight manual (AFM) and the FAA-approved maintenance program. That AD also provides for optional terminating action for compliance with the revisions to the AFM and the maintenance program. That AD resulted from a report that a fuel tank boost pump failed in service, due to a detached screw of the boost pump housing that created a short circuit between the stator and rotor of the boost pump motor and tripped a circuit breaker. We issued that AD to ensure that the flightcrew is aware of procedures to prevent the presence of a combustible air-fuel mixture in the fuel tank boost pump, which, in the event of electrical arcing in the pump motor, could result in an explosion and loss of the airplane.

Actions Since Existing AD Was Issued

We considered AD 2006-12-02 interim action and were considering further rulemaking if final action were later identified. We now have determined that further rulemaking is necessary, and this proposed AD follows from that determination. Airbus has developed a modification to prevent the screws from coming loose and issued new service information that addresses the identified unsafe condition.

Relevant Service Information

Airbus has issued the following service bulletins:

Service Bulletins
Airbus Service Bulletin | Revision | Date
A320-28-1152 | Original | May 5, 2006.
| 01 | July 17, 2006.
A320-28-1153 | 01 | July 13, 2006.

Service Bulletin A320-28-1152 describes procedures for determining the type, part number, and serial number of the fuel pumps of the wing and center tanks by either checking airplane records or inspecting the pump amendment label. The service bulletin recommends modifying affected fuel pumps in accordance with Service Bulletin A320-28-1153. Service Bulletin A320-28-1153 describes procedures for modifying the affected fuel pumps by replacing the nuts and bolts from the gas return outlet with new nuts and bolts, applying the correct torque to the nuts, and applying locktite adhesive, or replacing affected pumps with pumps having a serial number other than 6137 and subsequent.

Accomplishing the actions specified in the service information is intended to adequately address the unsafe condition. The European Aviation Safety Agency (EASA), which is the aviation authority for the European Union, mandated the service information and issued airworthiness directive 2006-0222, dated July 20, 2006, to ensure the continued airworthiness of these airplanes in the European Union.

Service Bulletin A320-28-1153 refers to Eaton Service Bulletin 8410-28-04, dated May 2, 2006, as an additional source of service information for the modification.

FAA's Determination and Requirements of the Proposed AD

These airplane models are manufactured in France and are type certificated for operation in the United States under the provisions of § 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for airplanes of this type design that are certificated for operation in the United States.

This proposed AD would supersede AD 2006-12-02 and would retain the requirements and provisions of the existing AD. This proposed AD would also require modifying affected fuel pumps, which would allow removal of the limitations from the AFM and the maintenance program.

Costs of Compliance

The following table provides the estimated costs for U.S. operators to comply with this proposed AD. The parts manufacturer states that it will modify the pump free of charge.

Estimated Costs
Action | Work hours | Average labor rate per hour | Parts | Cost per airplane | Number of U.S.-registered airplanes | Fleet cost
Identify boost pumps, as required by AD 2006-12-02 | 1 | $80 | None | $80 | 727 | $58,160

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14626 (71 FR 34814, June 16, 2006) and adding the following new airworthiness directive (AD):

Airbus: Docket No. FAA-2007-27011; Directorate Identifier 2006-NM-175-AD.

Comments Due Date

(a) The FAA must receive comments on this AD action by February 26, 2007.

Affected ADs

(b) This AD supersedes AD 2006-12-02.

Applicability

(c) This AD applies to all Airbus Model A318, A319, A320, and A321 airplanes, certificated in any category.

Unsafe Condition

(d) This AD results from a report that a fuel tank boost pump failed in service, due to a detached screw of the boost pump housing that created a short circuit between the stator and rotor of the boost pump motor and tripped a circuit breaker. We are issuing this AD to prevent electrical arcing in the fuel tank boost pump motor, which in the presence of a combustible air-fuel mixture in the fuel tank boost pump, could result in an explosion and loss of the airplane.

Compliance

(e) You are responsible for having the actions required by this AD performed within the compliance times specified, unless the actions have already been done.

Restatement of Requirements of AD 2006-12-02

Part and Serial Number Inspection

(f) Within 10 days after July 3, 2006 (the effective date of AD 2006-12-02), inspect to determine the part number (P/N) and serial number (S/N) of each fuel tank boost pump installed in the wing and center fuel tanks. A review of maintenance records may be performed instead of the required inspection if the P/N and S/N of the fuel boost pump can be conclusively determined from that review. Accomplishment of the inspection or records review as specified in Airbus Service Bulletin A320-28-1152, dated May 5, 2006; or Revision 01, dated July 17, 2006; is one approved method for conducting this inspection or records review. For any airplane not equipped with any Eaton Aerospace Limited (formerly FR-HITEMP Limited) fuel pump having P/N 568-1-27202-005 with S/N 6137 and subsequent: No further action is required by this AD for that airplane, except as described in paragraph (j) of this AD.

Revisions to the Airplane Flight Manual (AFM) and the Maintenance Program

(g) For airplanes equipped with one or more Eaton Aerospace Limited (formerly FR-HITEMP Limited) fuel boost pumps, having P/N 568-1-27202-005 with S/N 6137 and subsequent: Prior to further flight after accomplishing the inspection required by paragraph (f) of this AD, do the actions specified in paragraphs (g)(1) and (g)(2) of this AD, until the modification required by paragraph (h) of this AD has been done.

(1) Revise the Limitations section of the Airbus A318/A319/A320/A321 AFM and the FAA-approved maintenance program by incorporating the following. This may be accomplished by inserting copies of this AD into the AFM and the maintenance program.

“Apply the following procedure at each fuel loading:

Refueling: Before refueling, all pumps must be turned off, in order to prevent them from automatically starting during the refueling process.

Ground fuel transfer: For all aircraft, do not start a fuel transfer from any wing tank, if it contains less than 700 kg (1550 lb) of fuel.

For A318, A319, and A320 aircraft with a center tank, do not start a fuel transfer from the center tank, if it contains less than 2,000 kg (4,500 lb) of fuel.

If a tank has less than the required quantity, it is necessary to add fuel (via a transfer from another tank or refueling) to enable a transfer to take place.

Defueling: For all aircraft, when defueling the wings, do not start the fuel pumps if the fuel quantity in the inner tank (wing tank for A321) is below 700 kg (1,550 lb). If the fuel on the aircraft is not sufficient to achieve the required fuel distribution, then transfer fuel or refuel the aircraft to obtain the required fuel quantity in the wing tank.

For A318, A319, and A320 aircraft with a center tank, when performing a pressure defuel of the center tank, make sure that the center tank contains at least 2,000 kg (4,500 lb) of fuel. If it has less than the required quantity, then transfer fuel to the center tank. Defuel the aircraft normally, and turn OFF the center tank pumps immediately after the FAULT light on the corresponding pushbutton-switch comes on.”

(2) Revise the Limitations section of the AFM to incorporate the changes specified in Airbus Temporary Revision (TR) 4.03.00/28, dated May 4, 2006. This may be accomplished by inserting a copy of the TR into the AFM. When general revisions of the AFM have been issued that incorporate the revisions specified in the TR, the copy of the TR may be removed from the AFM, provided the relevant information in the general revision is identical to that in TR 4.03.00/28.

New Requirements of This AD

Terminating Action

(h) For airplanes equipped with one or more Eaton Aerospace Limited (formerly FR-HITEMP Limited) fuel boost pumps, having P/N 568-1-27202-005 with S/N 6137 and subsequent: At the applicable time specified in paragraph (h)(1) or (h)(2) of this AD, either modify or replace affected fuel boost pumps in accordance with Airbus Service Bulletin A320-28-1153, Revision 01, dated July 13, 2006. Modification or replacement of all affected fuel tank boost pumps on an airplane terminates the requirements of paragraph (g) of this AD, and the limitations required by paragraph (g) of this AD may be removed from the AFM and the maintenance program for that airplane.

(1) For the center tank fuel pumps: Within 1,000 flight hours or 3 months after the effective date of this AD, whichever occurs first.

(2) For the wing tank fuel pumps: Within 2,000 flight hours or 6 months after the effective date of this AD, whichever occurs first.

Note 1: Airbus Service Bulletin A320-28-1153 refers to Eaton Service Bulletin 8410-28-04, dated May 2, 2006, as an additional source of service information for the fuel pump modification.

Previous Accomplishment

(i) Modification of a fuel pump before the effective date of this AD in accordance with Airbus Service Bulletin A320-28-1153, dated May 5, 2006, is acceptable for compliance with the requirements of paragraph (h) of this AD for that pump only.

Parts Installation

(j) As of the effective date of this AD, no person may install a boost pump, P/N 568-1-27202-005, having any S/N 6137 and subsequent, on any airplane, unless the boost pump has been modified in accordance with this AD.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) European Aviation Safety Agency airworthiness directive 2006-0222, dated July 20, 2006, also addresses the subject of this AD.

Issued in Renton, Washington, on January 12, 2007.
Ali Bahrami,
Manager, Transport Airplane Directorate, Aircraft Certification Service.

[FR Doc. E7-1093 Filed 1-24-07; 8:45 am]

BILLING CODE 4910-13-P